DEPARTMENT OF ENERGY

Federal Energy Regulatory Commission

Combined Notice of Filings #1

Take notice that the Commission received the following electric rate filings:

Docket Numbers: ER18-1770-003.

Applicants: ISO New England Inc., New England Power Pool Participants Committee.

Description: Compliance filing: ISO-NE & NEPOOL; Tariff Modifications to Reflect Rejection of Economic Life Rev to be effective 8/10/2018.

Filed Date: 4/9/20.

Accession Number: 20200409-5079.

Comments Due: 5 p.m. ET 4/30/20.

Docket Numbers: ER19-1924-002.

Applicants: Cheyenne Light, Fuel and Power Company.

Description: Compliance filing: Errata to Compliance Filing to Order No. 845 Compliance Filing-Amendments to be effective 5/22/2019.

Filed Date: 4/9/20.

Accession Number: 20200409-5096.

Comments Due: 5 p.m. ET 4/30/20.

Docket Numbers: ER19-1925-002.

Applicants: Black Hills Colorado Electric, LLC.

Description: Compliance filing: Errata to Compliance Filing to Order No. 845 Compliance Filing-Amendments to be effective 5/22/2019.

Filed Date: 4/9/20.

Accession Number: 20200409-5097.

Comments Due: 5 p.m. ET 4/30/20.

Docket Numbers: ER19-1926-002

Applicants: Black Hills Power, Inc.

Description: Compliance filing: Errata to Filing to Order No. 845 Compliance Filing-Amendments to be effective 5/22/2019.

Filed Date: 4/9/20.

Accession Number: 20200409-5098.

Comments Due: 5 p.m. ET 4/30/20.

Docket Numbers: ER20-1045-001.

Applicants: Tri-State Generation and Transmission Association, Inc.

Description: Tariff Amendment: Amendment to Service Agreement No. 608 to be effective 6/8/2020.

Filed Date: 4/8/20.

Accession Number: 20200408-5154.

Comments Due: 5 p.m. ET 4/29/20.

Docket Numbers: ER20-1519-000.

Applicants: Little Bear Solar 4, LLC.

Description: § 205(d) Rate Filing: Certificate of Concurrence Shared Gen-Tie Facilities Common Ownership Agreement to be effective 4/9/2020.

Filed Date: 4/8/20.

Accession Number: 20200408-5141.

Comments Due: 5 p.m. ET 4/29/20.

Docket Numbers: ER20-1520-000.

Applicants: Neighborhood Sun Benefit Corp.

Description: Compliance filing: Refile Baseline Tariff Neighborhood Sun Tariff to be effective 4/8/2020.

Filed Date: 4/8/20.

Accession Number: 20200408-5144.

Comments Due: 5 p.m. ET 4/29/20.

Docket Numbers: ER20-1521-000.

Applicants: PJM Interconnection, L.L.C.

Description: Tariff Cancellation: Notice of Cancellation of ISA, SA No. 4598, Queue No. AA1-047 re: Suspension to be effective 1/12/2020.

Filed Date: 4/8/20.

Accession Number: 20200408-5145.

Comments Due: 5 p.m. ET 4/29/20.

Docket Numbers: ER20-1522-000.

Applicants: Little Bear Solar 5, LLC.

Description: § 205(d) Rate Filing: Certificate of Concurrence Shared Gen-Tie Facilities Common Ownership Agreement to be effective 4/9/2020.

Filed Date: 4/8/20.

Accession Number: 20200408-5146.

Comments Due: 5 p.m. ET 4/29/20.

Docket Numbers: ER20-1523-000.

Applicants: Southwest Power Pool, Inc.

Description: § 205(d) Rate Filing: 2881R10 City of Chanute, KS NITSA NOA to be effective 4/1/2020.

Filed Date: 4/9/20.

Accession Number: 20200409-5020.

Comments Due: 5 p.m. ET 4/30/20.

Docket Numbers: ER20-1524-000.

Applicants: Consolidated Edison Company of New York, Inc., New York Independent System Operator, Inc.

Description: § 205(d) Rate Filing: Joint 205 re: NYISO & Con Edison—LGIA SA2520—East River 1 to be effective 3/26/2020.

Filed Date: 4/9/20.

Accession Number: 20200409-5021.

Comments Due: 5 p.m. ET 4/30/20.

Docket Numbers: ER20-1525-000.

Applicants: Eastern Landfill Gas, LLC.

Description: Waiver Request of Eastern Landfill Gas, LLC.

Filed Date: 4/8/20.

Accession Number: 20200408-5201.

Comments Due: 5 p.m. ET 4/29/20.

Docket Numbers: ER20-1526-000

Applicants: New York Independent System Operator, Inc., Consolidated Edison Company of New York, Inc.

Description: § 205(d) Rate Filing: Joint 205 re: LGIA SA2521 between NYISO & Consolidated Edison—East River 2 to be effective 3/26/2020.

Filed Date: 4/9/20.

Accession Number: 20200409-5057.

Comments Due: 5 p.m. ET 4/30/20.

Docket Numbers: ER20-1527-000.

Applicants: Mississippi Power Company.

Description: Waiver Request of Mississippi Power Company.

Filed Date: 4/9/20.

Accession Number: 20200409-5066.

Comments Due: 5 p.m. ET 4/30/20.

Docket Numbers: ER20-1528-000.

Applicants: PJM Interconnection, L.L.C.

Description: § 205(d) Rate Filing: Original ISA, SA No. 5612; Queue No. AF1-185 to be effective 3/10/2020.

Filed Date: 4/9/20.

Accession Number: 20200409-5067.

Comments Due: 5 p.m. ET 4/30/20.

Docket Numbers: ER20-1529-000.

Applicants: Southern California Edison Company.

Description: § 205(d) Rate Filing: Amended GIA & DSA Tehachapi Plains Wind, LLC, Windland Refresh 2 SA Nos. 812-813 to be effective 6/9/2020.

Filed Date: 4/9/20.

Accession Number: 20200409-5087.

Comments Due: 5 p.m. ET 4/30/20.

Docket Numbers: ER20-1530-000.

Applicants: Arizona Public Service Company.

Description: § 205(d) Rate Filing: Rate Schedule No. 32, Service Schedule F to be effective 6/9/2020.

Filed Date: 4/9/20.

Accession Number: 20200409-5107.

Comments Due: 5 p.m. ET 4/30/20.

Docket Numbers: ER20-1531-000

Applicants: PJM Interconnection, L.L.C.

Description: § 205(d) Rate Filing: Original ISA, SA No. 5621; Queue No. AF1-195 to be effective 3/10/2020.

Filed Date: 4/9/20.

Accession Number: 20200409-5113.

Comments Due: 5 p.m. ET 4/30/20.

Docket Numbers: ER20-1532-000.

Applicants: PJM Interconnection, L.L.C.

Description: § 205(d) Rate Filing: Original ISA, SA No. 5622; Queue No. AF1-196 to be effective 3/10/2020.

Filed Date: 4/9/20.

Accession Number: 20200409-5115.

Comments Due: 5 p.m. ET 4/30/20.

Take notice that the Commission received the following foreign utility company status filings:

Docket Numbers: FC20-5-000.

Applicants: Riverstone Holdings LLC.

Description: Self-Certification of Riverstone Holdings LLC.

Filed Date: 4/8/20.

Accession Number: 20200408-5191.

Comments Due: 5 p.m. ET 4/29/20.

Docket Numbers: FC20-6-000.

Applicants: Riverstone Holdings LLC.

Description: Self-Certification of Riverstone Holdings LLC.

Filed Date: 4/8/20.

Accession Number: 20200408-5192.

Comments Due: 5 p.m. ET 4/29/20.

Docket Numbers: FC20-7-000.

Applicants: Riverstone Holdings LLC.

Description: Self-Certification of Riverstone Holdings LLC.

Filed Date: 4/8/20.

Accession Number: 20200408-5193.

Comments Due: 5 p.m. ET 4/29/20.

Docket Numbers: FC20-8-000.

Applicants: Riverstone Holdings LLC.

Description: Self-Certification of Riverstone Holdings LLC.

Filed Date: 4/8/20.

Accession Number: 20200408-5194.

Comments Due: 5 p.m. ET 4/29/20.

Docket Numbers: FC20-9-000.

Applicants: Riverstone Holdings LLC.

Description: Self-Certification of Riverstone Holdings LLC.

Filed Date: 4/8/20.

Accession Number: 20200408-5195.

Comments Due: 5 p.m. ET 4/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2020.
Nathaniel J. Davis, Sr.,
Deputy Secretary.

[FR Doc. 2020-07926 Filed 4-14-20; 8:45 am]

BILLING CODE 6717-01-P